DEPARTMENT OF COMMERCE

International Trade Administration

[A-469-814]

Chlorinated Isocyanurates From Spain: Notice of Preliminary Determination of Sales at Less Than Fair Value and Postponement of Final Determination

AGENCY: Import Administration, International Trade Administration, Department of Commerce.

DATES: Effective Dates: December 20, 2004.

FOR FURTHER INFORMATION CONTACT: Paige Rivas at (202) 482-0651; AD/CVD Operations, Office 4, Import Administration, Room 1870, International Trade Administration, U.S. Department of Commerce, 14th Street and Constitution Avenue, NW., Washington, DC 20230.

Preliminary Determination

We preliminarily determine that chlorinated isocyanurates (chlorinated isos) from Spain are being, or are likely to be, sold in the United States at less than fair value (LTFV), as provided in section 733 of the Tariff Act of 1930, as amended (the Act). The estimated margins of sales at LTFV are shown in the “Suspension of Liquidation” section of this notice. Interested parties are invited to comment on this preliminary determination. We will make our final determination no later than 135 days after the date of publication of this preliminary determination.

SUPPLEMENTARY INFORMATION:

Case History

On May 14, 2004, the Department of Commerce (the Department) received a petition for the imposition of antidumping duties on imports of chlorinated isos from Spain, filed in proper form, by Clearon Corporation and Occidental Chemical Corporation (collectively, the petitioners). See Letter from the petitioners to Secretary Evans of the Department and Secretary Abbott of the U.S. International Trade Commission (ITC), “Petition for the Imposition of Antidumping Duties: Chlorinated Isocyanurates from the People's Republic of China and Spain,” dated May 14, 2004 (the Petition). Pursuant to section 773(b) of the Act, the petitioners provided information in the petition demonstrating reasonable grounds to believe or suspect that sales in the home market of Spain were made at prices below the fully absorbed cost of production (COP) and, accordingly, requested that the Department conduct a country-wide sales-below-COP investigation in connection with the requested antidumping duty investigation. The Department initiated this antidumping duty investigation, along with a country-wide sales-below-COP investigation, of chlorinated isos from Spain on June 3, 2004. See Initiation of Antidumping Duty Investigations: Chlorinated Isocyanurates From the People's Republic of China and Spain, 69 FR 32488 (June 10, 2004) (Initiation Notice). Since the initiation of the investigation, the following events have occurred.

On June 28, 2004, the ITC preliminarily determined that there is a reasonable indication that an industry in the United States is materially injured by reason of chlorinated isos imported from Spain that are alleged to be sold in the United States at LTFV. See Chlorinated Isocyanurates from China and Spain, Investigations Nos. 731-TA-1082 and 1083 (Preliminary), 2004 ITC Lexis 623 (July 2004).

On June 22, 2004, the Department issued proposed product characteristics to interested parties. Aragonesas Delsa S.A. (Delsa) and the petitioners submitted comments on the proposed product characteristics on July 7, 2004, while Delsa submitted rebuttal comments on July 14, 2004. After an analysis of interested parties' comments, the Department issued revised product characteristics and model match hierarchy on July 16, 2004, inviting interested parties to comment. On July 21, 2004, Delsa and the petitioners informed the Department that they agree with the Department's revised product characteristics and model match hierarchy. On September 3, 2004, the Department further revised the product characteristics and model match criteria being reported by Delsa in its response to Sections B and C of the antidumping duty questionnaire in order to accommodate a more complete range of free available chlorine content and packaging sizes.

On June 28, 2004, the Department issued Section A of its antidumping duty questionnaire to Delsa, to which Delsa responded on July 21, 2004.¹ On July 16, 2004, the Department issued Sections B-E of its antidumping duty questionnaire to Delsa, and Delsa responded to Sections B-D on August 23, 2004. The Department issued supplemental questionnaires for Sections A-D to Delsa on August 31, September 7, September 13, October 22, October 29, November 5, and November 29, 2004. Delsa filed responses to these supplemental questionnaires on September 8, September 28, October 4, November 12, November 22, 2004, and December 2, 2004, respectively.

¹ Section A of the questionnaire requests general information concerning a company's corporate structure and business practices, the merchandise under investigation, and the manner in which the company sells that merchandise in all markets. Section B requests a complete listing of all of the company's home market sales of the foreign like product or, if the home market is not viable, sales of the foreign like product in the most appropriate third-country market (this section is not applicable to respondents in non-market economy cases). Section C requests a complete listing of the company's U.S. sales of subject merchandise. Section D requests information on the cost of production of the foreign like product and the constructed value of the merchandise under investigation. Section E requests information on further manufacturing. See http://ia.ita.doc.gov/questionnaires/questionnaires-ad.html, which can be accessed directly on the Web, for more information.

On September 16, 2004, the petitioners made a timely request pursuant to section 733(c)(1)(A) of the Act and 19 CFR 351.205(e) for postponement of the preliminary determination for 50 days or until December 10, 2004. On October 1, 2004, pursuant to section 733(c)(1)(A) of the Act, the Department postponed the preliminary determination of this investigation by 50 days, from October 21, 2004, until December 10, 2004. See Notice of Postponement of Preliminary Antidumping Duty Determinations: Chlorinated Isocyanurates From the People's Republic of China and Spain, 69 FR 60352 (October 8, 2004).

Postponement of the Final Determination

Section 735(a)(2)(A) of the Act provides that a final determination may be postponed until not later than 135 days after the date of the publication of the preliminary determination if, in the event of an affirmative preliminary determination, a request for such postponement is made by exporters who account for a significant proportion of exports of the subject merchandise, or, in the event of a negative preliminary determination, a request for such postponement is made by the petitioners. The Department's regulations, at 19 CFR 351.210(e)(2), require that requests by respondents for postponement of a final determination be accompanied by a request for an extension of the provisional measures from a four-month period to not more than six months.

On November 24, 2004, Delsa requested that, in the event of an affirmative preliminary determination in this investigation, the Department postpone its final determination until 135 days after the publication of the preliminary determination. Delsa also included a request to extend the provisional measures to not more than 135 days after the publication of the preliminary determination. Accordingly, because we have made an affirmative preliminary determination, and the requesting party accounts for a significant proportion of exports of the subject merchandise, we have postponed the final determination until not later than 135 days after the date of the publication of the preliminary determination.

Period of Investigation

The period of investigation (POI) is April 1, 2003, through March 31, 2004. See 19 CFR 351.204(b)(1). This period corresponds to the four most recent fiscal quarters prior to the filing of the petition.

Scope of Investigation

The products covered by this investigation are chlorinated isos. Chlorinated isos are derivatives of cyanuric acid, described as chlorinated s-triazine triones. There are three primary chemical compositions of chlorinated isos: (1) trichloroisocyanuric acid (C13 (NCO)3), (2) sodium dichloroisocyanurate (dihydrate) (NaCl2(NCO)3 • 2H2 O), and (3) sodium dichloroisocyanurate (anhydrous) (NaCl2(NCO)3). Chlorinated isos are available in powder, granular, and tabletted forms. This investigation cover all chlorinated isos.

Chlorinated isos are currently classifiable under subheading 2933.69.6050 of the Harmonized Tariff Schedule of the United States (HTSUS). This tariff classification represents a basket category that includes chlorinated isos and other compounds including an unfused triazine ring. Although the HTSUS subheading is provided for convenience and customs purposes, the written description of the merchandise remains dispositive.

Scope Comments

The Department set aside a period for all interested parties to raise issues regarding product coverage of the scope of the investigation. See Initiation Notice, 69 FR at 32489. Arch Chemicals, Inc. (Arch) submitted comments on July 1, 2004, and rebuttal comments on July 12, 2004, and July 30, 2004, in which it argued that its patented chlorinated isos tablet should be excluded from the scope of this investigation. Petitioners submitted comments on June 30, 2004, and rebuttal comments on July 21, 2004, in which they stated their opposition to excluding Arch's patented chlorinated isos tablet from the scope. On October 21, 2004, the Department held ex-parte meetings with Arch's counsel to discuss its scope exclusion request (see ex-parte memoranda to the file dated October 22, and 28, 2004). Based on our analysis of the record evidence, we preliminarily find that Arch's patented chlorinated isos tablet is included within the scope of this antidumping duty investigation. For a detailed discussion of Arch and the petitioners' comments, as well as the Department's position that the scope of this order includes Arch's patented chlorinated isos tablet, see Memorandum from Holly A. Kuga, Senior Office Director for Office 4, to Barbara E. Tillman, Acting Deputy Assistant Secretary for Import Administration, “Scope of the Antidumping Duty Investigations of Chlorinated Isocyanurates from the People's Republic of China and Spain,” dated December 10, 2004, which is on file in the Central Records Unit (CRU), Room B-099 of the Main Commerce Building.

Selection of Respondent

Section 777A(c)(1) of the Act directs the Department to calculate individual dumping margins for each known exporter and producer of the subject merchandise. Where it is not practicable to examine all known producers/exporters of subject merchandise, section 777A(c)(2) of the Act permits the Department to investigate either (1) a sample of exporters, producers, or types of products that is statistically valid based on the information available at the time of selection, or (2) exporters and producers accounting for the largest volume of the subject merchandise from the exporting country that can reasonably be examined. As guidance in selecting respondents, the petitioners stated that Delsa is believed to account for most, if not all, of the exports of chlorinated isos into the United States. See Petition at 23. We obtained import statistics from U.S. Customs and Border Protection (CBP) and confirmed this claim. In addition, the ITC, in its preliminary determination, identified Delsa as the only exporter of subject merchandise from Spain to the United States during the POI. See Preliminary at 3. Therefore, we selected Delsa as the mandatory respondent in this investigation.

Product Comparisons

In accordance with section 771(16) of the Act, all products manufactured by the respondents in the home market and covered by the description contained in the “Scope of Investigation” section, above, and sold in the home market in the ordinary course of trade during the POI are considered to be foreign like products for purposes of determining appropriate product comparisons to U.S. sales. We have relied upon four criteria to match U.S. sales of subject merchandise to comparison-market sales of the foreign like product: (1) Chemical structure; (2) free available chlorine (FAC) content;² (3) physical form; and (4) packaging. Where there were no sales of identical merchandise in the home market made in the ordinary course of trade, we compared U.S. sales to sales of the most similar foreign like product made in the ordinary course of trade, based on the characteristics listed above. Where we were unable to match U.S. sales to home market sales of the foreign like product, we based normal value (NV) on constructed value (CV).

² FAC is the portion of the total chlorine remaining in chlorinated water that has not reacted with contaminants, and is “free” to go to work killing bacteria and other contaminants. It is formed when Dichlor or Trichlor or chlorine gas is mixed with water and dissociates. The FAC is the main pool water disinfectant/sanitizer.

Fair Value Comparisons

To determine whether sales of chlorinated isos from Spain were made in the United States at LTFV, we compared the export price (EP) to the NV, as described in the “Export Price” and “Normal Value” sections of this notice. In accordance with section 777A(d)(1)(A)(i) of the Act, we calculated weighted-average EPs. We compared these to weighted-average NVs in Spain on the basis of shipment date. We determined this to be the appropriate date of sale because shipment date reflects the time at which the material terms of sale were established.

Export Price

For the price to the United States, we used EP as defined in section 772(a) of the Act, because the subject merchandise was sold by Delsa before the date of importation to unaffiliated purchasers in the United States. Section 772(a) of the Act defines EP as the price at which the subject merchandise is first sold (or agreed to be sold) before the date of importation by the producer or exporter of the subject merchandise outside of the United States to an unaffiliated purchaser in the United States or to an unaffiliated purchaser for exportation to the United States, as adjusted under subsection 772(c) of the Act. We based EP on packed and delivered prices to unaffiliated purchasers in the United States. We have excluded U.S. sales of Dichlor from our analysis for the purposes of the preliminary determination. For additional information, see Memorandum from Mark Manning, Acting Program Manager, to Holly A. Kuga, Senior Office Director for Office 4, “Whether to Exclude Products from the Respondent's Universe of Sales,” dated December 10, 2004 (Products Memorandum).

In accordance with section 772(c)(2)(A) of the Act, we reduced Delsa's starting price by billing adjustments and movement expenses. Billing adjustments included early payment discounts and other billing adjustments (which include corrections to invoices). Movement expenses included, where appropriate, inland freight, brokerage and handling, and international freight.

Normal Value

A. Selection of Comparison Market

Section 773(a)(1) of the Act directs the Department to base NV on the price at which the foreign like product is sold in the home market, provided that, among other things, the merchandise is sold in sufficient quantities in the home market (or has sufficient aggregate value, if quantity is inappropriate) and that there is no particular market situation in the home market that prevents a proper comparison with the EP transaction. The statute provides that the total quantity of home market sales of foreign like product (or value) will normally be considered sufficient if it is five percent or more of the aggregate quantity (or value) of sales of the subject merchandise to the United States. Based on a comparison of the aggregate quantity of home market sales of foreign like product and U.S. sales of subject merchandise by Delsa, we determined that the quantity of foreign like product sold in Spain is more than five percent of the quantity of U.S. sales of subject merchandise. Accordingly, for Delsa, we based NV on home market (HM) sales. We have excluded HM sales of Dichlor from our analysis for the purposes of the preliminary determination. For additional information, see Products Memorandum.

In calculating NV, we made adjustments as detailed in the “Calculation of Normal Value Based on Home-Market Prices” and “Calculation of Normal Value Based on Constructed Value” sections below.

B. Affiliated-Party Transactions and Arm's-Length Test

Delsa reported that it sold chlorinated isos in the comparison market only to unaffiliated customers. Therefore, application of the arm's-length test is unnecessary.

C. Cost of Production Analysis

In the original petition, the petitioners alleged that sales of chlorinated isos in the home market were made at prices below the fully absorbed COP and, accordingly, requested that the Department conduct a country-wide sales-below-cost investigation. Based upon the comparison of the petition's adjusted prices and COP for the foreign like product, and in accordance with section 773(b)(2)(A)(i) of the Act, we found reasonable grounds to believe or suspect that sales of chlorinated isos in Spain were made at prices below the COP. See Initiation Notice. As a result, the Department has conducted an investigation to determine whether Desla made sales in the home market at prices below its COP during the POI within the meaning of section 773(b) of the Act. Our COP analysis is described below.

1. Calculation of Cost of Production

In accordance with section 773(b)(3) of the Act, we calculated a weighted-average COP for Delsa based on the sum of the cost of materials and fabrication of the foreign like product, plus amounts for the home market general and administrative (G&A) expenses and interest expenses. We relied on the submitted COP data, except as noted below:

We made the following adjustments to Delsa's submitted COP data: (1) We adjusted Delsa's reported cost of chlorine gas to reflect the average market price in accordance with 19 CFR 351.407(b); (2) we revised the startup period, used in the calculation of Delsa's startup adjustment, from the reported start-up period. We also revised the startup adjustment calculation to reflect only those production costs incurred at the Sabiñánigo plant (i.e., the plant that incurred the start-up costs); (3) because the Department considers labor expenses to be variable expenses (i.e., expenses that vary depending upon production levels), we reclassified Delsa's labor expenses from its reported fixed costs to variable costs; (4) we adjusted Delsa's calculation of its G&A expense ratio by adding certain G&A expenses to the numerator of the ratio. Because packing expenses were included in Delsa's reported materials costs, we added packing costs to the denominator of Delsa's G&A expense ratio; and (5) we adjusted Delsa's interest expense ratio by adding the Uralita Group's net foreign exchange losses to the numerator of the interest expense ratio. See Memorandum from LaVonne Clark, Case Accountant, to Neal Halper, Director of the Office of Accounting, “Cost of Production and Constructed Value Calculation Adjustments for the Preliminary Determination,” dated December 10, 2004 (Cost Calculation Memorandum), for additional information.

2. Test of Home Market Sales Prices

As required by section 773(b)(1) of the Act, we compared Delsa's adjusted weighted-average COP, on a product-specific basis, to the HM prices, less any applicable movement charges, taxes, rebates, commissions, and other direct and indirect selling expenses to determine whether these sales had been made at prices below the COP. For those sales that we determined were made below COP, we examined whether they had been made within an extended period of time in substantial quantities, and whether such prices were sufficient to permit the recovery of all costs within a reasonable period of time. See section 773(b)(1)(A) and (B) of the Act.

3. Results of the COP Test

Pursuant to section 773(b)(2)(B) and (C) of the Act, when less than 20 percent of the respondent's sales of a given product were at prices less than the COP, we did not disregard any below-cost sales of that product because the below-cost sales were not made in substantial quantities within an extended period of time. When 20 percent or more of the respondent's sales of a given product during the POI were at prices less than the COP, we determined that the below-cost sales were made in substantial quantities within an extended period of time pursuant to section 773(b)(2)(B) and (C) of the Act. In such cases, we disregarded the below-cost sales because, based on comparisons of prices to weighted-average COPs for the POI, we determined that these sales were at prices which would not permit recovery of all costs within a reasonable period of time in accordance with section 773(b)(2)(D) of the Act. Based on this test, we disregarded below-cost sales. See Cost Calculation Memorandum, for additional information.

D. Calculation of Normal Value Based on Home Market Prices

We determined price-based NVs for Delsa as follows. Where applicable, we made adjustments for differences in cost attributable to differences in physical characteristics of the merchandise pursuant to section 773(a)(6)(C)(ii) of the Act, as well as for differences in circumstances of sale (COS) attributed to imputed credit expenses in accordance with section 773(a)(6)(C)(iii) of the Act and 19 CFR 351.410. We also made adjustments for billing adjustments (early payment discounts and quantity rebates). In addition, we deducted HM movement expenses pursuant to section 773(a)(6)(B)(ii) of the Act. We also made adjustments, pursuant to 19 CFR 351.410(e), for indirect selling expenses incurred on HM or U.S. sales where commissions were granted on sales in one market but not in the other (the commission offset). Finally, we deducted HM packing costs and added U.S. packing costs in accordance with section 773(a)(6)(A) and (B)(i) of the Act. We used the amounts reported by Delsa for packing even though these amounts include the cost of tableting (which is appropriately considered a cost of manufacture) because Delsa did not provide a breakdown of its tableting and packing cost. See Memorandum from Paige Rivas, Senior International Trade Compliance Analyst, to the File, “Calculation Memorandum for Aragonesas Delsa S.A.,” dated December 10, 2004 (Sales Calculation Memorandum).

We made the following adjustments to the expenses reported by Delsa. First, we recalculated credit expense for two home market sales by assigning the date of the Delsa's last supplemental response (December 2, 2004) as the payment date for these unpaid sales. Second, we recalculated the movement expenses on several sales to include freight expenses associated with the return of subject merchandise for the corresponding invoices and customers. See Sales Calculation Memorandum.

E. Calculation of Normal Value Based on Constructed Value

Section 773(a)(4) of the Act provides that, where NV cannot be based on comparison-market sales, NV may be based on CV. Accordingly, for those models of chlorinated isos for which we could not determine the NV based on comparison-market sales, either because there were no sales of a comparable product or all sales of the comparison products failed the COP test, we based NV on CV.

In accordance with section 773(e)(1) and (e)(2)(A) of the Act, we calculated CV based on the sum of the cost of materials and fabrication for the foreign like product, plus amounts for selling expenses, G&A, interest, profit and U.S. packing costs. We calculated the cost of materials and fabrication based on the methodology described in the “Calculation of Cost of Production” section of this notice. In accordance with section 773(e)(2)(A) of the Act, we based selling expenses, G&A, and profit on the amounts incurred and realized by Delsa, in connection with the production and sale of the foreign like product in the ordinary course of trade for consumption in the foreign country.

F. Level of Trade/Constructed Export Price Offset

In accordance with section 773(a)(1)(B)(i) of the Act, to the extent practicable, we determined NV based on sales in the HM market at the same level of trade (LOT) as the U.S. sales. The NV LOT is that of the starting-price sale in the HM market or, when the NV is based on CV, that of the sales from which we derive SG&A expenses and profit. For EP sales, the U.S. LOT is also the level of the starting-price sale, which is usually the price of the sale from the exporter to the importer.

To determine whether HM market sales are at a different LOT than EP or CEP transactions, we examine stages in the marketing process and selling functions along the chain of distribution between the producer and the unaffiliated customer. See 19 CFR 351.412(c)(2). Different stages of marketing necessarily involve differences in selling functions, but differences in selling functions, even substantial ones, are not alone sufficient to establish a difference in the LOT. Similarly, while customer categories such as “distributor” and “wholesaler” may be useful in identifying different LOTs, they are insufficient in themselves to establish that there is a difference in the LOT.

If the HM sales are at a different LOT, and the difference affects price comparability with U.S. sales, as manifested in a pattern of consistent price differences between the sales on which NV is based and HM sales at the LOT of the export transaction, we make an LOT adjustment pursuant to section 773(a)(7)(A) of the Act. See Final Determination of Sales at Less Than Fair Value: Greenhouse Tomatoes From Canada, 67 FR 8781 (February 26, 2002).

To determine whether an LOT adjustment is warranted, we obtained information from Delsa about the marketing stages at which its reported U.S. and HM sales were made, including a description of the selling activities performed by Delsa for its one channel of distribution, i.e., from the Sabiñanigo plant directly to the customer. In identifying LOTs for EP and HM sales, we considered the selling functions reflected in the starting price before any adjustments. Generally, if the claimed LOTs are the same, the functions and activities of the seller should be similar. Conversely, if a party claims that LOTs are different for different groups of sales, the functions and activities of the seller should be dissimilar.

In conducting our LOT analysis, we took into account the specific customer types, channels of distribution, and selling functions. We preliminarily determine that in both the comparison and U.S. markets, two LOTs exist for Delsa's sales.³ The two LOTs in each market are attributed to the two different types of Delsa's customers, industrial customers and retail level customers. The differences in the LOTs are based on the higher level of selling activity associated with the retail level customers in comparison to the industrial customers. For example, Delsa states that its retail level customers require significantly more services, including frequent visits to new retail level customers or potential customers, more frequent placement of orders in smaller quantities, and more frequent rebates, than industrial customers.

³ We note that Delsa reported two LOTs in each market in its questionnaire responses.

In addition, after comparing the customer types and selling functions associated with Delsa's HM sales to the customer types and selling functions associated with its U.S. sales, we determine that each LOT in the U.S. market had a corresponding LOT in the HM and the selling activities between the corresponding LOTs were virtually identical in each market. The industrial users in both the U.S. market and HM constitute one LOT and the retail level customers in both the U.S. market and HM constitute another LOT. For the industrial user LOT, the selling functions in the U.S. market and the HM were identical and at identical levels of activity except for two selling functions, i.e., rebates and commissions. For the retail level LOT, the selling functions in the U.S. market and HM were identical and at identical levels of activity except for one selling function, i.e., rebates. Accordingly, we made comparisons at the same LOT, and, therefore, it was not necessary to make an LOT adjustment. For a further discussion of our LOT analysis, see the Memorandum from Paige Rivas, Senior International Trade Compliance Analyst, to Holly A. Kuga, Senior Office Director for Office IV, “Level of Trade Analysis: Aragonesas Delsa S.A.” dated December 10, 2004.

G. Currency Conversions

We made currency conversions to U.S. dollars in accordance with section 773A of the Act based on exchange rates in effect on the dates of the U.S. sales, as obtained from the Federal Reserve Bank, the Department's preferred source for exchange rates.

Verification

In accordance with section 782(i) of the Act, we intend to verify all information relied upon in making our final determination.

All Others Rate

Section 735(c)(5)(A) of the Act provides for the use of an “all others” rate, which is applied to non-investigated firms. See Statement of Administrative Action, H.R. Doc. No. 103-316, Vol. I (1994). This section states that the all others rate shall generally be an amount equal to the weighted-average dumping margins established for exporters and producers individually investigated, excluding any zero and de minimis margins, and any margins based entirely upon the facts available. Therefore, we have preliminarily assigned to all other exporters of chlorinated isos from Spain a margin that is based on the margin calculated for the mandatory respondent.

Suspension of Liquidation

In accordance with section 733(d)(2) of the Act, we are directing CBP to suspend liquidation of all shipments of chlorinated isos from Spain that are entered, or withdrawn from warehouse, for consumption on or after the date of publication of this notice in the Federal Register. We will instruct CBP to require a cash deposit or the posting of a bond equal to the weighted-average amount by which the NV exceeds the U.S. price, as indicated below. These suspension-of-liquidation instructions will remain in effect until further notice. The weighted-average dumping margins are as follows:

Manufacturer/exporter | Margin (percent)
Delsa | 12.13
All Others | 12.13

Disclosure

The Department will disclose to the parties to the proceeding the calculations performed in the preliminary determination within five days of the date of publication of this notice, in accordance with 19 CFR 351.224(b).

International Trade Commission Notification

In accordance with section 733(f) of the Act, we have notified the ITC of our preliminary sales at LTFV determination. If our final antidumping determination is affirmative, section 735(b)(2) of the Act requires that the ITC makes a final determination on whether imports of chlorinated isos from Spain are materially injuring or threatening material injury to the U.S. industry before the later of 120 days after the date of this preliminary determination or 45 days after the date of our final determination. Because we have postponed the deadline for the final determination to 135 days from the date of publication of this preliminary determination, the ITC will make its final determination within 45 days of our final determination.

Public Comment

Case briefs for this investigation must be submitted no later than one week after the issuance of the verification report. Rebuttal briefs must be filed within five days after the deadline for submission of case briefs. A list of authorities used, a table of contents, and an executive summary of issues should accompany any briefs submitted to the Department. Executive summaries should be limited to five pages total, including footnotes. Further, the Department respectfully requests that all parties submitting written comments also provide the Department with an additional copy of the public version of any such comments on diskette.

Section 774 of the Act provides that the Department will hold a hearing to afford interested parties an opportunity to comment on arguments raised in case or rebuttal briefs, provided that such a hearing is requested by an interested party. If a request for a hearing is made in an investigation, the hearing normally will be held two days after the deadline for submission of the rebuttal briefs, at the U.S. Department of Commerce, 14th Street and Constitution Avenue, NW., Washington, DC 20230. Parties should confirm by telephone the time, date, and place of the hearing 48 hours before the scheduled time.

Interested parties who wish to request a hearing, or to participate in a hearing if one is requested, must submit a written request within 30 days of the publication of this notice. Requests should specify the number of participants and provide a list of the issues to be discussed. Oral presentations will be limited to issues raised in the briefs.

As noted above, the Department will make its final determination within 135 days after the date of the publication of the preliminary determination.

This determination is issued and published pursuant to section 733(f) and 777(i)(1) of the Act.

Dated: December 10, 2004.
Joseph A. Spetrini,
Acting Assistant Secretary for Import Administration.

[FR Doc. E4-3742 Filed 12-17-04; 8:45 am]

BILLING CODE 3510-DS-P